DEPARTMENT OF THE INTERIOR

Bureau of Land Management

[LLCA930000 L58790000 EU0000; CACA 50168 17 and 18]

Notice of Realty Action: Competitive Sale of Public Lands in Monterey County, CA

AGENCY: Bureau of Land Management, Interior.

ACTION: Notice of realty action.

SUMMARY: The Bureau of Land Management (BLM), Hollister Field Office, proposes to sell two separate parcels of public land totaling 80 acres in Monterey County, California. The sale will be conducted as competitive bid auctions in which interested bidders must submit written sealed bids equal to, or greater than, the appraised fair market value of the lands.

DATES: Written comments regarding the proposed sales must be received by the BLM on or before March 14, 2011. Sealed bids must be received no later than 3 p.m., Pacific Time on June 13, 2011, at the address specified below. Other deadline dates for payments, arranging payments, and payment by electronic transfers, are specified in the terms and conditions of sale described herein. Sealed bids will be opened on June 14, 2011, which will be the sale date.

ADDRESSES: Written comments concerning the proposed sale should be sent to the Field Manager, BLM Hollister Field Office, 20 Hamilton Court, Hollister, CA 95023. Sealed bids must also be submitted to this address. More detailed information regarding the proposed sale and the land involved, including maps and current appraisal may be reviewed during normal business hours between 7:30 a.m. and 4 p.m. at the Hollister Field Office.

FOR FURTHER INFORMATION CONTACT: Christine Sloand, Realty Specialist, BLM, Hollister Field Office, 20 Hamilton Court, Hollister, CA 95023, or phone (831) 630-5022.

SUPPLEMENTARY INFORMATION: The following two parcels of public land are proposed for competitive sale, in accordance with Sections 203 and 209 of the Federal Land Policy and Management Act of 1976 (FLPMA), as amended (43 U.S.C. 1713 and 1719).

Mount Diablo Meridian

Parcel One

T. 24S., R. 8E.,

Sec. 11, SW¼SW¼.

The area described contains 40 acres, more or less, in Monterey County.

Parcel one is proposed for sale at the appraised fair market value of $68,200.

Parcel Two

T. 24S., R. 8E.,

Sec 12, SW¼SW¼.

The area described contains 40 acres, more or less, in Monterey County. Parcel two is proposed for sale at the appraised fair market value of $68,200. The public lands were first identified as suitable for disposal in the 1984 BLM Hollister Resource Management Plan (RMP) and remain available for sale under the 2007 Hollister RMP revision, and are not needed for any other Federal purpose. Disposal of the lands would be in the public interest. The lands are difficult and uneconomic to manage as part of the public lands because they lack legal access, and are small parcels isolated from other public lands. The BLM has completed a mineral potential report which concluded there are no known mineral values in the lands proposed for sale. The BLM proposes that conveyance of the Federal mineral interests would occur simultaneously with the sale of the lands.

On January 28, 2011, the above described lands will be segregated from appropriation under the public land laws, including the mining laws, except for the sale provisions of the FLPMA. Until completion of the sale, the BLM will no longer accept land use applications affecting the identified public lands, except applications for the amendment of previously filed right-of-way applications or existing authorizations to increase the term of the grants in accordance with 43 CFR 2802.15 and 2886.15. The segregation terminates upon issuance of a patent, publication in the Federal Register of a termination of the segregation, or on January 28, 2013, unless extended by the BLM State Director in accordance with 43 CFR 2711.1-2(d) prior to the termination date. The land would not be sold until at least March 29, 2011. Any conveyance document issued would contain the following terms, conditions, and reservations:

1. A reservation of a right-of-way to the United States for ditches and canals constructed by authority of the United States under the Act of August 30, 1890 (43 U.S.C 945);

2. A condition that the conveyance be subject to all valid existing rights of record;

3. An appropriate indemnification clause protecting the United States from claims arising out of the patentee's use, occupancy, or operations on the patented lands; and

4. Additional terms and conditions that the authorized officer deems appropriate. Interested bidders are advised to obtain an Invitation For Bids (IFB) from the BLM Hollister Field Office at the address above or by calling (831) 630-5022. Interested bidders must follow the instructions in the IFB to participate in the bidding process.

Sealed bids must be for not less than the federally approved fair market value. Sealed bids must be received at the BLM Hollister Field Office no later than 3 p.m., Pacific Time on June 13, 2011. Each sealed bid must include a certified check, money order, bank draft, or cashier's check made payable in U.S. dollars to the order of the Bureau of Land Management, for 10 percent of the amount of the bid. The highest qualifying bidder among the qualified bids received for the sale will be declared the high bid and the high bidder will receive written notice. Bidders submitting matching high bid amounts will be provided an opportunity to submit supplemental bids. The BLM Hollister Field Office Manager will determine the method of supplemental bidding, which may be by oral auction or additional sealed bids. The successful bidder must submit the remainder of the full bid price in the form of a certified check, money order, bank draft, or cashier's check made payable in U.S. dollars to the Bureau of Land Management prior to the expiration of 180 days from the date of the sale. Personal checks will not be accepted.

Failure to submit the full bid price prior to, but not including, the 180th day following the day of the sale, will result in the forfeiture of the 10 percent bid deposit to the BLM in accordance with 43 CFR 2711.3-1(d). No exceptions will be made. The BLM will return checks submitted by unsuccessful bidders by U.S. mail. The BLM may accept or reject any or all offers, or withdraw any parcel of land or interest therein from sale, if, in the opinion of the BLM authorized officer, consummation of the sale would not be fully consistent with FLPMA or other applicable law or is determined to not be in the public interest. Under Federal law, the public lands may only be conveyed to U.S. citizens 18 years of age or older; a corporation subject to the laws of any State or of the United States; a State, State instrumentality, or political subdivision authorized to hold property, or an entity legally capable of conveying and holding lands under the laws of the State of California. Certification of qualifications, including citizenship or corporation or partnership, must accompany the sealed bid. A bid to purchase the land will constitute an application for conveyance of the mineral interests of no known value, and in conjunction with the final payment, the high bidder will be required to pay a $50 non-refundable filing fee for processing the conveyance of the mineral interests.

If not sold, the lands described in this Notice may be identified for sale later without further legal notice and may be offered for sale by sealed bid, Internet auction, or oral auction. In order to determine the value, through appraisal, of the lands proposed to be sold, certain extraordinary assumptions may have been made of the attributes and limitations of the lands and potential effects of local regulations and policies on potential future land uses. Through publication of this Notice, the BLM gives notice that these assumptions may not be endorsed or approved by units of local government. It is the buyer's responsibility to be aware of all applicable local government policies, laws, and regulations that would affect the lands, including any required dedication of lands for public uses. It is also the buyer's responsibility to be aware of existing or projected uses of nearby properties. When conveyed out of Federal ownership, the lands will be subject to any applicable reviews and approvals by the respective unit of local government for proposed future uses, and any such reviews and approvals will be the responsibility of the buyer. Any land lacking access from a public road or highway will be conveyed as such, and future access acquisition will be the responsibility of the buyer. Detailed information concerning the proposed land sale including the reservations, sale procedures and conditions, appraisal, planning and environmental documents, and a mineral report are available for review at the location identified in ADDRESSES above.

Public Comments regarding the proposed sale may be submitted in writing to the attention of the BLM Hollister Field Manager (see ADDRESSES above) on or before March 14, 2011. Comments received in electronic form, such as e-mail or facsimile, will not be considered. Any adverse comments regarding the proposed sale will be reviewed by the BLM State Director or other authorized official of the Department of the Interior, who may sustain, vacate, or modify this realty action in whole or in part. In the absence of timely filed objections, this realty action will become the final determination of the Department of the Interior. Before including your address, phone number, e-mail address, or other personal identifying information in your comment, be advised that your entire comment—including your personal identifying information—may be made publicly available at any time. While you can ask us in your comment to withhold from public review your personal identifying information, we cannot guarantee that we will be able to do so.

Authority: 43 CFR 2711.1-2(a) and (c).

Karla Norris,
Associate Deputy State Director, Natural Resources.

[FR Doc. 2011-1828 Filed 1-27-11; 8:45 am]

BILLING CODE 4310-40-P